DEPARTMENT OF COMMERCE

National Oceanic and Atmospheric Administration

DEPARTMENT OF THE INTERIOR

U.S. Fish and Wildlife Service

[I.D. 021301F]

Marine Mammals and Endangered Species; National Marine Fisheries Service File No. 989-1602; U.S. Fish and Wildlife Service File No. 033958.

AGENCIES: National Marine Fisheries Service (NMFS), National Oceanic and Atmospheric Administration (NOAA), Commerce; U.S. Fish and Wildlife Service, Interior.

ACTION: Receipt of application.

SUMMARY: Notice is hereby given that Geo-Marine, Inc., 550 East 15th Street, Plano, TX 75074, has applied in due form for a permit to take all marine mammal species (Cetacea, Pinnipedia, and Sirenia) and sea turtle species occurring in Puerto Rican waters for purposes of scientific research.

DATES: Written or telefaxed comments must be received on or before March 26, 2001.

ADDRESSES: The application and related documents are available for review upon written request or by appointment. (See SUPPLEMENTARY INFORMATION).

FOR FURTHER INFORMATION CONTACT: Amy Sloan or Ruth Johnson, office of Protected Resources, NMFS, 301/713-2289.

SUPPLEMENTARY INFORMATION: The subject permit is requested under the authority of the Marine Mammal Protection Act of 1972, as amended (MMPA; 16 U.S.C. 1361 et seq.), the Regulations Governing the Taking and Importing of Marine Mammals (50 CFR parts 18 and 216), the Endangered Species Act of 1973, as amended (ESA; 16 U.S.C. 1531 et seq.), and the regulations governing the taking, importing, and exporting of endangered and threatened species (50 CFR parts 17 and 222-226).

The Applicant requests authorization to conduct aerial surveys for marine mammals and sea turtles in near-shore waters of Vieques, Puerto Rico. Marine mammal species include: from Suborder Mysticeti, Family Balaenopteridae: Bryde’s whale (Balaenoptera edeni), fin whale (Balaenoptera physalus), sei whale (Balaenoptera borealis), humpback whale (Megaptera novaeangliae), minke whale (Balaenoptera acutorostrata); from Suborder Odontoceti, Family Physeteridae: Sperm whale (Physeter macrocepahalus), pygmy sperm whale (Kogia breviceps), dwarf sperm whale (Kogia simus); from Suborder Odontoceti, Family Ziphiidae: Cuvier’s beaked whale (Ziphius cavirostris), Blainville’s beaked whale (Mesoplodon densirostris), Gervis’ beaked whale (Mesoplodon europaeus), True’s beaked whale (Mesoplodon mirus); from Suborder Odontoceti, Family Delphinidae: Melon-headed whale (Peponocephala electra), short-finned pilot whale (Globicephala macrorynchus), Risso’s dolphin (Grampus griseus), false killer whale (Pseudorca crassidens), pygmy killer whale (Feresa attenuata), bottlenose dolphin (Tursiops truncatus), rough-toothed dolphin (Steno bredanensis), Atlantic spotted dolphin (Stenella frontalis), pantropical spotted dolphin (Stenella attenuata), striped dolphin (Stenella coeruleoalba), spinner dolphin (Stenella longirostris), clymene dolphin (Stenella clymene), common dolphin (Delphinus delphis (capensis)), killer whale (Orcinus orca), Fraser’s dolphin (Lagenodelphis hosei); from Order Carnivora, Suborder Pinnipedia, Family Phocidae: Hooded seal (Cystophora cristata); from Order Sirenia, Family Trichechidae: West Indian manatee (Trichechus manatus). Sea turtle species include: from Suborder Cryptodira, Family Dermochelyidae: Leatherback sea turtle (Dermochelys coriacea); from Family Cheloniidae: Green sea turtle (Chelonia mydas), hawksbill sea turtle (Eretmochelys imbricata), Kemp’s Ridley sea turtle (Lepidochelys kempii), loggerhead sea turtle (Caretta caretta), olive ridley sea turtle (Lepidochelys olivacea).

The surveys would take place from fixed-wing and rotary wing aircraft flying no lower than 500 ft (152 m) above ground or sea level. level. The objective of the surveys is to determine occurrence, migration routes, and habitat utilization for the species occurring in the Inner Range, Atlantic Fleet Weapons Training Facility, Vieques. This area includes all waters surrounding the east end of Vieques for a distance of approximately 2 miles offshore. The results of this study will be used to assist the Navy in the planning of exercises conducted in this area. Data from these surveys would also be used in ongoing section 7 consultation under the ESA.

In compliance with the National Environmental Policy Act of 1969 (42 U.S.C. 4321 et seq.), an initial determination has been made that the activity proposed is categorically excluded from the requirement to prepare an environmental assessment or environmental impact statement.

Written comments or requests for a public hearing on this application should be mailed to the Chief, Permits and Documentation Division, F/PR1, Office of Protected Resources, NMFS, 1315 East-West Highway, Room 13705, Silver Spring, MD 20910. Those individuals requesting a hearing should set forth the specific reasons why a hearing on this particular request would be appropriate.

Comments may also be submitted by facsimile at (301) 713-0376, provided the facsimile is confirmed by hard copy submitted by mail and postmarked no later than the closing date of the comment period. Please note that comments will not be accepted by e-mail or by other electronic media.

Concurrent with the publication of this notice in the Federal Register, NMFS is forwarding copies of this application to the Marine Mammal Commission and its Committee of Scientific Advisors.

Documents associated with this application are in the following locations:

Permits and Documentation Division, Office of Protected Resources, NMFS, 1315 East-West Highway, Room 13130, Silver Spring, MD 20910 (301/713-2289);

Regional Administrator, Northeast Region, NMFS, One Blackburn Drive, Gloucester, Massachusetts 01930 (978/281-9138)

Regional Administrator, Southeast Region, NMFS, 9721 Executive Center Drive North, St. Petersburg, FL 33702-2432 (813/570-5312); and

U.S. Fish and Wildlife Service, Office of Management Authority, 4401 North Fairfax Drive, Arlington, VA 22203 (1-800-358-2104).

Dated: January 29, 2001.
Eugene T. Nitta,
Acting Chief, Permits and Documentation Division, Office of Protected Resources, National Marine Fisheries Service.

Dated: January 30, 2001.
Timothy J. Van Norman,
Chief, Branch of Permits, Division of Management Authority, U.S. Fish and Wildlife Service.

[FR Doc. 01-4414 Filed 2-21-01; 8:45 am]

BILLING CODE 3510-22-S